DEPARTMENT OF STATE

[Public Notice 8460]

Determinations Regarding Use of Chemical Weapons in Syria Under the Chemical and Biological Weapons Control and Warfare Elimination Act of 1991

AGENCY: Bureau of International Security and Nonproliferation, Department of State.

ACTION: Notice.

SUMMARY: The United States Government has determined on August 2, pursuant to Section 306(a) of the Chemical and Biological Weapons Control and Warfare Elimination Act of 1991, 22 U.S.C. 5604(a), that the Government of Syria has used chemical weapons in violation of international law or lethal chemical weapons against its own nationals. In addition, the United States Government has determined and certified to Congress pursuant to section 307(d) of the Act (22 U.S.C. 5605(d)) that it is essential to the national security interests of the United States to partially waive the application of the sanctions required under Section 307(a) of the Act (22 U.S.C. 5605(a)) with respect to activities in furtherance of United States policies regarding the Syrian conflict. The following is notice of sanctions to be imposed pursuant to Section 307(a) of the Act (22 U.S.C. 5605(a)), subject to the waiver described above.

DATES: Effective Date: Upon publication in the Federal Register.

FOR FURTHER INFORMATION CONTACT: Pamela K. Durham, Office of Missile, Biological, and Chemical Nonproliferation, Bureau of International Security and Nonproliferation, Department of State, Telephone (202) 647-4930.

SUPPLEMENTARY INFORMATION: Pursuant to Sections 306(a), 307(a), and 307(d) of the Chemical and Biological Weapons Control and Warfare Elimination Act of 1991, as amended (22 U.S.C. 5604(a) and 5605(a)), on August 2, 2013 the Under Secretary of State for Political Affairs: (1) Determined that the Government of Syria has used chemical weapons in violation of international law or lethal chemical weapons against its own nationals; and (2) determined and certified to Congress that it is essential to the national security interests of the United States to partially waive the application of the sanctions required under Section 307(a) with respect to certain activities determined by the United States Government to be in furtherance of United States policies regarding the Syrian conflict. As a result, the following sanctions are hereby imposed, subject to waivers as described above:

1. Foreign Assistance: Termination of assistance to Syria under the Foreign Assistance Act of 1961, except for urgent humanitarian assistance and food or other agricultural commodities or products.

2. Arms Sales: Termination of (a) sales to Syria under the Arms Export Control Act of any defense articles, defense services, or design and construction services, and (b) licenses for the export to Syria of any item on the United States Munitions List.

3. Arms Sales Financing: Termination of all foreign military financing for Syria under the Arms Export Control Act.

4. Denial of United States Government Credit or Other Financial Assistance: Denial to Syria of any credit, credit guarantees, or other financial assistance by any department, agency, or instrumentality of the United States Government, including the Export-Import Bank of the United States.

5. Exports of National Security-Sensitive Goods and Technology: Prohibition on the export to Syria of any goods or technology on that part of the control list established under section 2404(c)(1) of the Appendix to Title 50.

Determinations that activities are in furtherance of United States policies regarding the Syrian conflict, and thus the application of the above sanctions is excepted, will be made on a case-by-case basis with the involvement of the Department of State, using existing interagency procedures to the maximum extent possible. These measures shall be implemented by the responsible departments and agencies of the United States Government and will remain in place for at least one year or until further notice.

Dated: September 4, 2013.
Thomas M. Countryman,
Assistant Secretary of State for International Security and Nonproliferation.

[FR Doc. 2013-22032 Filed 9-9-13; 8:45 am]

BILLING CODE 4710-27-P